FEDERAL COMMUNICATIONS COMMISSION

47 CFR Part 73

[FCC 05-198; MB Docket No. 05-47; RM-11157, RM-11179, RM-11232]

Radio Broadcasting Services; Dubach, LA, Groesbeck, TX, Longview, TX, Nacogdoches, TX, Natchitoches, LA, Oil City, LA, Shreveport, LA, Tennessee Colony, TX and Waskom, TX

AGENCY: Federal Communications Commission.

ACTION: Final rule.

SUMMARY: This document grants a Counterproposal filed by Cumulus Licensing LLC in response to the Notice of Proposed Rule Making in this proceeding. See 70 FR 8558, February 22, 2005. Specifically, the license of Station KBED, Channel 300C2, Oil City, Louisiana, is modified to specify operation on Channel 247C2 at Waskom, Texas. To accommodate this reallotment, this document makes four related channel substitutions. Channel 300C2 is substituted for vacant Channel 247C2 at Longview, Texas. The license of Station KTBQ, Channel 299C2, Nacogdoches, Texas, is modified to specify operation on Channel 299C3. The license of Station KDBH, Channel 247C3, Natchitoches, Louisiana, is modified to specify operation on Channel 248A. The license of Station KPCH, Channel 249C1, Dubach, Louisiana, is modified to specify operation on Channel 249C2. To replace the loss of the sole local service at Oil City, this document modifies the license of Station KRMD, Channel 266C, Shreveport, Louisiana, to specify Oil City as the community of license. The reference coordinates for the Channel 247C2 allotment at Waskom, Texas, are 32-29-36 and 93-45-55. The reference coordinates for the Channel 266C allotment at Oil City, Louisiana, are 32-40-08 and 93-52-45. The reference coordinates for the Channel 300C2 allotment at Longview, Texas, are 32-42-01 and 94-40-47. The reference coordinates for the Channel 299C3 allotment at Nacogdoches, Texas, are 31-38-09 and 94-38-50. The reference coordinates for the Channel 248A allotment at Natchitoches, Louisiana, are 31-46-09 and 93-01-38. The reference coordinates for the Channel 249C2 allotment at Dubach, Louisiana, are 32-40-09 and 92-37-58. With this action, the proceeding is terminated.

DATES: Effective February 21, 2006.

FOR FURTHER INFORMATION CONTACT: Robert Hayne, Media Bureau (202) 418-2177.

SUPPLEMENTARY INFORMATION: This is a synopsis of the Report and Order in MB Docket No. 05-47 adopted November 28, 2005, and released December 2, 2005. The full text of this decision is available for inspection and copying during normal business hours in the FCC Reference Information Center at Portals II, CY-A257, 445 12th Street, SW., Washington, DC. The complete text of this decision may also be purchased from the Commission's copy contractor, Best Copy and Printing, Inc., 445 12th Street, SW., Room CY-B402, Washington, DC 20554, telephone 1-800-378-3160 or www.BCPIWEB.com. The Commission will send a copy of this Report and Order in a report to be sent to Congress and the Government Accountability Office pursuant to the Congressional Review Act, see 5 U.S.C. 801(a)(1)(A).

List of Subjects in 47 CFR Part 73

Radio, Radio broadcasting.

Part 73 of the Code of Federal Regulations is amended as follows:

PART 73—RADIO BROADCAST SERVICES

1. The authority citation for part 73 continues to read as follows:

Authority: 47 U.S.C. 154, 303, 334 and 336.

§ 73.202 [Amended]

2. Section 73.202(b), the table of FM Allotments under Louisiana, is amended by removing Channel 249C1 and adding Channel 249C2 at Dubach, by removing Channel 247C3 and adding Channel 248A at Natchitoches, by removing Channel 300C2 and adding Channel 266C at Oil City, and by removing Channel 266C at Shreveport.

3. Section 73.202(b), the Table of FM Allotments under Texas, is amended by removing Channel 247C2 and adding Channel 300C2 at Longview, by adding Channel 299C3 at Nacogdoches, by adding Waskom, Channel 247C2.

Federal Communications Commission.
Marlene H. Dortch,
Secretary.

[FR Doc. 06-705 Filed 1-24-06; 8:45 am]

BILLING CODE 6712-01-P